DEPARTMENT OF ENERGY

Federal Energy Regulatory Commission

Combined Notice of Filings #1

Take notice that the Commission received the following electric corporate filings:

Docket Numbers: EC15-100-000.

Applicants: Wabash Valley Power Association, Inc., Duke Energy Indiana, Inc.

Description: Joint Application for Authorization Under Section 203 of the Federal Power Act of Wabash Valley Power Association, Inc., and Duke Energy Indiana, Inc.

Filed Date: 3/20/15.

Accession Number: 20150320-5272.

Comments Due: 5 p.m. ET 4/10/15.

Take notice that the Commission received the following electric rate filings:

Docket Numbers: ER10-1777-007; ER10-2983-006; ER10-2980-006; ER15-718-002.

Applicants: Sundevil Power Holdings, LLC, Castleton Energy Services, LLC, Castleton Power, LLC, West Valley Power, LLC.

Description: Notification of Change in Status of the Wayzata Entities.

Filed Date: 3/20/15.

Accession Number: 20150320-5278.

Comments Due: 5 p.m. ET 4/10/15.

Docket Numbers: ER10-1800-007.

Applicants: Indianapolis Power & Light Company.

Description: Notice of Non-Material Change in Status of Indianapolis Power & Light Company.

Filed Date: 3/20/15.

Accession Number: 20150320-5279.

Comments Due: 5 p.m. ET 4/10/15.

Docket Numbers: ER10-1819-009; ER10-1820-011; ER10-1818-008; ER10-1817-009.

Applicants: Northern States Power Company, a Minnesota corporation, Northern States Power Company, a Wisconsin corporation, Public Service Company of Colorado, Southwestern Public Service Company.

Description: Notice of Change in Status of Northern States Power Company, a Minnesota corporation, et al.

Filed Date: 3/20/15.

Accession Number: 20150320-5277.

Comments Due: 5 p.m. ET 4/10/15.

Docket Numbers: ER10-2881-019; ER10-2882-019; ER10-2883-019; ER10-2884-019; ER10-2885-019; ER10-2641-019; ER10-2663-019; ER10-2886-019; ER13-1101-014; ER13-1541-013; ER14-787-007; ER14-661-006.

Applicants: Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC, Macho Springs Solar, LLC, SG2 Imperial Valley LLC.

Description: Notification of Non-Material of Change in Status of Alabama Power Company, et. al.

Filed Date: 3/20/15.

Accession Number: 20150320-5276.

Comments Due: 5 p.m. ET 4/10/15.

Docket Numbers: ER12-959-000.

Applicants: Southwest Power Pool, Inc.

Description: eTariff filing per 35.19a(b): Tri-County Electric Cooperative Formula Rate Refund Report in ER12-959-000 to be effective N/A.

Filed Date: 3/23/15.

Accession Number: 20150323-5142.

Comments Due: 5 p.m. ET 4/13/15.

Docket Numbers: ER13-823-003; ER15-1348-001; ER12-1561-002.

Applicants: Castleton Commodities Merchant Trading L, Roseton Generating LLC, CCI Rensselaer LLC.

Description: Triennial Market Power Analysis Update of Castleton Commodities Merchant Trading L.P. for the Northeast Region.

Filed Date: 3/20/15.

Accession Number: 20150320-5283.

Comments Due: 5 p.m. ET 5/19/15.

Docket Numbers: ER15-1029-001.

Applicants: Chubu TT Energy Management Inc.

Description: Tariff Amendment per 35.17(b): Chubu TT MBRA App Supplement to be effective 4/15/2015.

Filed Date: 3/20/15.

Accession Number: 20150320-5230.

Comments Due: 5 p.m. ET 4/10/15.

Docket Numbers: ER15-1351-000.

Applicants: PJM Interconnection, L.L.C.

Description: Section 205(d) rate filing per 35.13(a)(2)(iii): Service Agreement No. 3770; Queue No. X1-037 to be effective 2/19/2015 under ER15-1351 Filing Type: 10.

Filed Date: 3/23/15.

Accession Number: 20150323-5138.

Comments Due: 5 p.m. ET 4/13/15.

Docket Numbers: ER15-1352-000.

Applicants: Portsmouth Genco, LLC.

Description: Petition for Limited Waiver of Tariff Deadlines and Request for Expedited Action of Portsmouth Genco, LLC.

Filed Date: 3/23/15.

Accession Number: 20150323-5164.

Comments Due: 5 p.m. ET 4/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2015.
Nathaniel J. Davis, Sr.,
Deputy Secretary.

[FR Doc. 2015-07152 Filed 3-27-15; 8:45 am]

BILLING CODE 6717-01-P